DEPARTMENT OF AGRICULTURE

Forest Service

Rosemont Copper Project, Coronado National Forest, Pima County, AZ

AGENCY: Forest Service, USDA.

Authority: 40 CFR 1501.6.

ACTION: Notice of Solicitation of Interest and Eligibility of Federal and Non-Federal Cooperating Agencies.

SUMMARY: USDA Forest Service, Coronado National Forest is soliciting the interest and eligibility of potential federal and non-federal (tribal, state, and local governments and their agencies) in participating as cooperating agencies in the environmental study of the Mine Plan of Operation for the proposed Rosemont Copper Mine, Pima County, Arizona.

DATES: USDA Forest Service, Coronado National Forest requests written responses of interest and eligibility from potential federal and non-federal cooperating agencies by August 29, 2008.

FOR FURTHER INFORMATION CONTACT: For further information about this notice, please contact Ms. Reta Laford, Deputy Forest Supervisor, at (520) 388-8300.

SUPPLEMENTARY INFORMATION: The proposed Rosemont Copper Mine would extract and process ores from the Rosemont Deposit located approximately 30 miles southeast of Tucson, Arizona. The mine and associated facilities would encompass approximately 4,500 acres in public and private ownerships in Pima County, Arizona.

The Coronado National Forest, in compliance with the National Environmental Policy Act, published a Notice of Intent in the Federal Register (http://www.fs.fed.us/r3/coronado/rosemont/documents/rosemont-noi-022 82008.pdf) to prepare an environmental impact statement on Rosemont Copper Company's Mine Plan of Operations. In March 2008, several agencies also received a scoping notice about this project. Briefly, the proposed action is to construct and operate an open-pit copper mine and associated processing facilities, including access roads, required utilities, and to reclaim affected lands. A full description of the proposed action (Mine Plan of Operation) may be viewed at: http://www.rosemontcopper.com/operations2.asp.

The USDA Forest Service, Coronado National Forest is inquiring about federal and non-federal agency's interest and eligibility in serving as a cooperating agency. Federal and non-federal agencies interested in being a cooperating agency on this project should have jurisdiction by law (40 CFR 1508.15) and/or special expertise (40 CFR 1508.26) to contribute to the environmental study.

By August 29, 2008, federal and non-federal agency's desiring to cooperate in the environmental study of this Mine Plan of Operation should respond to this solicitation of interest with a written description of their interest and reasons for potential eligibility.

Written responses should be sent to: USDA Forest Service, Coronado National Forest, Attn: Rosemont Copper Project, 300 West Congress Street, Tucson, Arizona 85701.

Upon receipt of responses, the Coronado Forest Supervisor will make a determination of eligibility. Agencies that express interest, but for which eligibility is unclear, will be contacted for additional information. Agencies determined to be interested and eligible will receive a formal letter of invitation to be a cooperating agency. Additional information about the roles and responsibilities of cooperating agencies is available on the Council of Environmental quality Web site:

Memorandum for the Heads of Federal Agencies from James Connaughton, Chair: http://ceq.hss.doe.gov/nepalregs/cooperating/cooperatingagenciesmemorandum.html.

Attachment 1—Factors for Determining Whether to Invite, Decline or End Cooperating Agency Status: http://ceq.hss.doe.gov/nepalregs/cooperating/cooperatingagencymemofactors.html.

Identifying Non-Federal Cooperating Agencies in Implementing the Procedural Requirements of the National Environmental Policy Act: http://ceq.hss.doe.gov/nepalregs/000925letter.html.

Questions or concerns about the Mine Plan of Operation or agencies' respective roles and responsibilities during the preparation of this environmental study should be directed to Deputy Forest Supervisor, Reta Laford. Ms. Laford may be reached via telephone at (520) 388-8300.

Dated: July 9, 2008,
Jeanine A. Derby,
Forest Supervisor.

[FR Doc. E8-16314 Filed 7-16-08; 8:45 am]

BILLING CODE 3410-11-M